DEPARTMENT OF HOUSING AND URBAN DEVELOPMENT

[Docket No. FR-4971-N-38]

Notice of Submission of Proposed Information Collection to OMB; Management Reviews of Multifamily Projects

AGENCY: Office of the Chief Information Officer, HUD.

ACTION: Notice.

SUMMARY: The proposed information collection requirement described below has been submitted to the Office of Management and Budget (OMB) for review, as required by the Paperwork Reduction Act. The Department is soliciting public comments on the subject proposal.

This management review information collection under OMB control number 2502-0178 combines with that previously collected under control number 2502-0259 from 36 Mortgagees of Co-Insured Projects. This single collection will now be used for both unsubsidized and subsidized projects.

DATES: Comments Due Date: September 2, 2005.

ADDRESSES: Interested persons are invited to submit comments regarding this proposal. Comments should refer to the proposal by name and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; or Lillian Deitzer at Lillian_L_Deitzer@HUD.gov or telephone (202) 708-2374. This is not a toll-free number. Copies of available documents submitted to OMB may be obtained from Mr. Eddins or Ms. Deitzer and at HUD's website at http://www5.hud.gov:63001/po/i/icbts/collectionsearch.cfm.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Management Reviews of Multifamily Projects.

OMB Approval Number: 2502-0178.

Form Numbers: 9834.

Description of the Need for the Information and Its Proposed Use: The information collected from project owners and/or management agents is to evaluate the quality of project management; determine the causes of project problems; devise corrective actions to stabilize projects and prevent defaults, and to ensure that fraud, waste and mismanagement do not exist. This information also supports enforcement actions when owners fail to implement corrective actions.

This information collection under OMB control number 2502-0178 combines with that previously collected under 2502-0259 and collected from 36 Mortgagees of Co-Insured Projects. This single collection will now be used for both unsubsidized and subsidized projects.

After review of public comments submitted following the previous notice, the burden estimate has been further revised.

Frequency of Submission: Annually.

| Number of respondents | Annual responses | × | Hours per response | = | Burden hours
Reporting Burden | 25,584 | 25,620 |  | 8 |  | 204,960

Total Estimated Burden Hours: 204,960.

Status: Revision of an existing collection.

Authority: Section 3507 of the Paperwork Reduction Act of 1995, 44 U.S.C. 35, as amended.

Dated: July 28, 2005.
Wayne Eddins,
Departmental Paperwork Reduction Act Officer, Office of the Chief Information Officer.

[FR Doc. E5-4131 Filed 8-2-05; 8:45 am]

BILLING CODE 4210-27-P